DEPARTMENT OF ENERGY

Federal Energy Regulatory Commission

18 CFR Part 35

[Docket Nos. RM01-8-000, RM10-12-000, RM12-3-000, ER02-2001-000]

Filing Requirements for Electric Utility Service Agreements; Electricity Market Transparency; Revisions to Electric Quarterly Report Filing Process; Electric Quarterly Reports

AGENCY: Federal Energy Regulatory Commission, Department of Energy.

ACTION: Proposed revisions to electric quarterly report reporting requirements.

SUMMARY: In this document, pursuant to sections 205 and 220 of the Federal Power Act (FPA), the Federal Energy Regulatory Commission (Commission) seeks comments on proposed revisions and clarifications of Electric Quarterly Report (EQR) reporting requirements and corresponding updates to the EQR Data Dictionary. In particular, this document proposes to: Require transmission providers to report ancillary services transaction data, to require filers to submit in the EQR certain tariff-related information that they submit in the e-Tariff system, and to require filers to submit time zone information in connection with transmission capacity reassignment transactions. This document also proposes to clarify how filers should report booked out transactions and seeks comments on issues relating to booked out transactions.

DATES: Comments on this proposal are due December 6, 2016.

FOR FURTHER INFORMATION CONTACT:

Donald Callow (Technical Information), Office of Enforcement, Federal Energy Regulatory Commission, 888 First Street NE., Washington, DC 20426, (202) 502-8838.

Maria Vouras (Legal Information), Office of Enforcement, Federal Energy Regulatory Commission, 888 First Street NE., Washington, DC 20426, (202) 502-8062.

SUPPLEMENTARY INFORMATION: 1. In this document, pursuant to sections 205 and 220 of the Federal Power Act,¹ the Commission requests comments on proposed revisions and clarifications of certain Electric Quarterly Report (EQR) reporting requirements and corresponding updates to the EQR Data Dictionary. Specifically, the Commission seeks comments on whether to: (1) Require transmission providers to report ancillary services transaction data; (2) require filers to submit into the FERC Tariff Reference fields in the EQR certain tariff-related information that they currently submit in the e-Tariff system; and (3) require filers to submit time zone information in connection with transmission capacity reassignment transactions. The Commission also proposes to clarify how booked out transactions should be reported in the EQR.

¹ 16 U.S.C. 824d, 824t.

I. Background

2. In Order No. 2001,² the Commission amended its filing requirements to require companies subject to Commission regulations under FPA section 205 to electronically file EQRs summarizing the contractual terms and conditions in their agreements for all jurisdictional services, including cost-based sales, market-based rate sales, and transmission service, as well as transaction information for short-term and long-term market-based power sales and cost-based power sales. In Order No. 768,³ the Commission, among other things, revised the EQR filing requirement to include non-public utilities ⁴ with more than a de minimis market presence.

² Revised Public Utility Filing Requirements, Order No. 2001, FERC Stats. & Regs.¶ 31,127, reh'g denied, Order No. 2001-A, 100 FERC ¶ 61,074, reh'g denied, Order No. 2001-B, 100 FERC ¶ 61,342, order directing filing, Order No. 2001-C, 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 120 FERC ¶ 61,270, order on reh'g and clarification, Order No. 2001-H, 121 FERC ¶ 61,289 (2007), order revising filing requirements, Order No. 2001-I, FERC Stats. & Regs. ¶ 31,282 (2008).

³ Electricity Market Transparency Provisions of Section 220 of the Federal Power Act, Order No. 768, FERC Stats. & Regs. ¶ 31,336 (2012), order on reh'g, Order No. 768-A, 143 FERC ¶ 61,054 (2013), order on reh'g, Order No. 768-B, 150 FERC ¶ 61,075 (2015).

⁴ Order No. 768, FERC Stats. & Regs. ¶ 31,336 at P 19. See also 16 U.S.C. 824(f).

3. On June 16, 2016, the Commission issued an order implementing certain clarifications to the EQR reporting requirements and updating the EQR Data Dictionary.⁵ Specifically, the June 16 Order clarified reporting requirements related to “Increment Name” and “Commencement Date of Contract Terms;” affirmed the requirement that transmission providers must report transmission-related data in their EQRs; made certain updates to the EQR Data Dictionary; and clarified that future minor or non-material changes to EQR reporting requirements and the EQR Data Dictionary, such as those outlined in the June 16 Order, will be posted directly to the Commission's Web site and EQR users will be alerted via email of these changes. The June 16 Order further clarified that “significant changes to the EQR reporting requirements and the EQR Data Dictionary will be proposed in a Commission order or rulemaking, which would provide an opportunity for comment.” ⁶

⁵ Filing Requirements for Electric Utility Service Agreements, 155 FERC ¶ 61,280 (2016) (June 16 Order).

⁶ Id. P 5.

4. The Commission proposes to make further revisions and clarifications to the existing EQR reporting requirements based on a review of existing EQR data and reporting practices. Unlike the minor or non-material changes implemented in the June 16 Order, the revisions and clarifications proposed in this document may be more significant for EQR filers to implement. Accordingly, the Commission seeks comments on the revisions and clarifications proposed in this document.

II. Discussion

A. Ancillary Services Transaction Data

5. In Order No. 888, the Commission adopted six ancillary services to be included in the Open Access Transmission Tariff (OATT).⁷ The six ancillary services established in Order No. 888 are now offered under the Order No. 890 pro forma OATT. In Order No. 890, the Commission also adopted “generator imbalance” as a new ancillary service.⁸

⁷ Promoting Wholesale Competition Through Open Access Non-discriminatory Transmission Services by Public Utilities; Recovery of Stranded Costs by Public Utilities and Transmitting Utilities, Order No. 888, FERC Stats. & Regs. ¶ 31,036 (1996), order on reh'g, Order No. 888-A, FERC Stats. & Regs. ¶ 31,048 (1997), order on reh'g, Order No. 888-B, 81 FERC 61,248, order on reh'g, Order No. 888-C, 82 FERC ¶ 61,046 (1998), aff'd in relevant part sub nom. Transmission Access Policy Study Group v. FERC, 225 F.3d 667 (D.C. Cir. 2000), aff'd sub nom. New York v. FERC, 535 U.S. 1 (2002). The ancillary services available under the Order No. 888 OATT were Scheduling, System Control and Dispatch (Schedule 1), Reactive Supply and Voltage Control (Schedule 2), Regulation and Frequency Response (Schedule 3), Energy Imbalance (Schedule 4), Operating Reserve-Spinning Reserve (Schedule 5), Operating Reserve-Supplemental Reserve (Schedule 6).

⁸ Preventing Undue Discrimination and Preference in Transmission Service, Order No. 890, FERC Stats. & Regs. ¶ 31,241, at PP 667-68, order on reh'g, Order No. 890-A, FERC Stats. & Regs. ¶ 31,261 (2007), order on reh'g, Order No. 890-B, 123 FERC ¶ 61,299 (2008), order on reh'g, Order No. 890-C, 126 FERC ¶ 61,228, order on clarification, Order No. 890-D, 129 FERC ¶ 61,126 (2009).

6. In Order No. 697,⁹ the Commission revised its standards for market-based rate authority for sales of electric energy, capacity, and ancillary services. Among other things, Order No. 697 addressed the posting and reporting requirements for third-party sellers of ancillary services at market-based rates. In particular, the Commission required third-party sellers of ancillary services at market-based rates to provide information about their ancillary services transactions in the EQR.¹⁰ The Commission concluded that the EQR filing requirement for third-party sellers of ancillary services at market-based rates provides an adequate means to monitor ancillary services sales by third parties.¹¹

⁹ Market-Based Rates for Wholesale Sales of Electric Energy, Capacity and Ancillary Services by Public Utilities, Order No. 697, FERC Stats. & Regs. ¶ 31,252, clarified, 121 FERC ¶ 61,260 (2007), order on reh'g, Order No. 697-A, FERC Stats. & Regs. ¶ 31,268, clarified, 124 FERC ¶ 61,055, order on reh'g, Order No. 697-B, FERC Stats. & Regs. ¶ 31,285 (2008), order on reh'g, Order No. 697-C, FERC Stats. & Regs. ¶ 31,291 (2009), order on reh'g, Order No. 697-D, FERC Stats. & Regs. ¶ 31,305 (2010), aff'd sub nom. Mont. Consumer Counsel v. FERC, 659 F.3d 910 (9th Cir. 2011), cert. denied, 133 S. Ct. 26 (2012).

¹⁰ Order No. 697, FERC Stats. & Regs. ¶ 31,252 at PP 1057-58.

¹¹ Id. P 1058.

7. Following the issuance of Order No. 697, in Order No. 2001-I, the Commission clarified that third-party providers of ancillary services must submit information about their ancillary services associated with unbundled sales of transmission services in the Transaction Data section of the EQR, and that information about ancillary services reported by transmission providers should only be reported in the Contract Data section of the EQR.¹² The Commission based its clarifications on Order No. 2001, in which the Commission determined that ancillary services transaction data associated with transmission need not be reported when the transmission services are provided on an unbundled basis whereas ancillary services transaction data associated with power sales would need to be reported.¹³ Accordingly, the Commission revised the EQR Data Dictionary definitions for ancillary services-related product names in Appendix A ¹⁴ to state: “For Contracts, reported if the contract provides for sale of the product. For Transactions, sales by third-party providers (i.e., non-transmission function) are reported.” ¹⁵

¹² Order No. 2001-I, FERC Stats. & Regs. ¶ 31,282 at PP 29-30.

¹³ Id. P 29 (citing Order No. 2001, FERC Stats. & Regs. 31,127 at P 271).

¹⁴ These product names include “Energy Imbalance,” “Generator Imbalance,” “Regulation & Frequency Response,” “Spinning Reserve,” and “Supplemental Reserve.”

¹⁵ Order No. 2001-I, FERC Stats. & Regs. ¶ 31,282.

8. As stated above, unlike third-party providers of ancillary services, which must report information about their ancillary services in both the Contract Data and Transaction Data sections of the EQR, the Commission has required transmission providers to report only information about their ancillary services agreements in the Contract Data section if the contract provides for the sale of the ancillary services product. We propose to require transmission providers to report information about transactions made under their ancillary services agreements in the Transaction Data section of the EQR. Although transmission providers currently report information about their ancillary services agreements, without information about the transactions taking place under those agreements, there is inadequate visibility into the actual sales and rates being charged for ancillary services, especially where transmission providers have increased their reliance on markets to meet their ancillary services obligations. Therefore, we propose to obtain additional information about ancillary services from transmission providers to help the Commission, the public, and the industry determine the actual rates being charged for service under these agreements and to increase price transparency into the wholesale ancillary services markets. In addition, this information would enable the Commission to better evaluate the competitiveness of these markets and strengthen its ability to monitor them.

9. We seek comments on this proposal and on our proposal to revise the definitions of ancillary services-related product names in Appendix A to delete: “For Transactions, sales by third-party providers (i.e., non-transmission function) are reported.”

B. FERC Tariff Reference (Field Numbers 19 and 48)

10. The “FERC Tariff Reference” in Field Numbers 19 and 48 must be reported in both the Contract Data and Transaction Data sections of the EQR. Based on a review of EQR data, the tariff-related information submitted in these fields can be inconsistent or inaccurate. As a result, we propose that sellers input in Field Numbers 19 and 48 a subset of the tariff information that sellers currently use to report their tariff-related data in the e-Tariff system. In particular, we propose to require sellers to submit, in Field Numbers 19 and 48, four of the Business Names associated with their tariff (i.e., Tariff Identifier, Filing Identifier, Tariff Record Identifier, and Option Code) in the same format that they currently provide this data in the e-Tariff system. This approach would allow greater consistency between the tariff designations used by sellers in the EQR and e-Tariff system. We seek comments on this proposal and on our proposal to revise the definitions in Field Numbers 19 and 48 to add: “The FERC tariff reference must include four of the Business Names currently submitted in the e-Tariff system: Tariff Identifier, Filing Identifier, Tariff Record Identifier, and Option Code.”

C. Time Zone Field in Contract Data Section

11. In Order No. 768, the Commission eliminated “Time Zone” (previously listed as Field Number 45) from the Contract Data Section of the EQR.¹⁶ However, since the issuance of Order No. 768, the Commission has determined that, while time zone information may not be necessary with respect to the contract-related information captured in the Contract Data Section of the EQR, it may be necessary for accurately reporting transmission capacity reassignment transactions, which are reported in the Contract Data Section of the EQR. As a result, the Commission proposes to add options related to time zone information in Field Number 30 in the Contract Data Section of the EQR, and seeks comments on this proposal.

¹⁶ See Order No. 768, FERC Stats. & Regs. ¶ 31,336 at P 121.

D. Booked Out Transactions

12. “Booked Out Power” is a product currently defined in Appendix A of the EQR Data Dictionary as “[e]nergy or capacity contractually committed bilaterally for delivery but not delivered due to some offsetting or countervailing trade (Transaction only).” As stated in Order No. 2001, the power sales that make up book out transactions are typically for the sale for resale of electric energy in interstate commerce.¹⁷ The Commission noted that the price, quantity and other agreement details in such agreements are indistinguishable from those in any other power sale agreement and that the agreements obligate the seller to provide power and obligate the buyer to pay the agreed-on prices.¹⁸ Furthermore, the Commission noted that such book out transactions plainly affect or relate to those transactions and prices paid for power sales that go to delivery.¹⁹

¹⁷ Order No. 2001, FERC Stats. & Regs. ¶ 31,127 at P 282.

¹⁸ Id.

¹⁹ Id. P 285.

13. Based on a review of EQR data, it appears that submissions related to “Booked Out Power” frequently contain inconsistent or inaccurate information. Without accurate reporting of booked out transactions, it is difficult to determine how much power is being traded compared to how much power is actually being delivered. Moreover, such inconsistencies or inaccuracies in reporting booked out transactions can distort the price and volume information related to power sales that is reported in the EQR. As a result, the Commission proposes to further clarify below what should be considered booked out transactions and provides several examples of how to properly report this information.

14. In addition, we find that, based on the current EQR database configuration, it is not possible to differentiate book outs of energy or capacity because EQR filers do not have the option to distinguish between the two products. As a result, we propose to replace the existing product name “Booked Out Power” in Appendix A of the EQR Data Dictionary with the product names “Booked Out Energy” and “Booked Out Capacity.” Accordingly, if the booked out transaction involves a book out of energy, the EQR filer should report it under the product name “Booked Out Energy,” and if the booked out transaction involves a book out of capacity, the EQR filer should report it under the product name “Booked Out Capacity.” “Booked Out Energy” will be defined in Appendix A as: “Energy contractually committed for delivery but not actually delivered due to some offsetting or countervailing trade (Transaction only).” “Booked Out Capacity” will be defined in Appendix A as: “Capacity contractually committed for delivery but not actually delivered due to some offsetting or countervailing trade (Transaction only).” We seek comments on the burden and impact of these proposals.

15. With respect to our proposed clarifications on how EQR filers should report booked out transactions, we note that, in Order No. 2001, the Commission explained that booked out transactions occur “when the cumulative effect of a number of separate sales between two parties is such that they mutually agree to exchange their obligations to physically deliver power to each other, while maintaining all their other obligations, including payment.” ²⁰ In Order No. 2001-A, the Commission also explained that book outs are the offsetting of opposing buy-sell transactions at the same time and place and gave examples of how to report booked out transactions, which involved Company A and Company B.²¹

²⁰ Id. P 8 n.9 (emphasis added).

²¹ Order No. 2001-A, 100 FERC ¶ 61,074 at P 22.

16. Some of the inaccuracies or inconsistencies in reporting booked out transactions may stem from filers' confusion as to whether booked out transactions need only be reported when they involve the same two counterparties rather than multiple parties. The Commission hereby proposes to clarify that booked out transactions must be reported in the EQRs regardless of the number of parties involved in these transactions. In an effort to further clarify which booked out transactions should be reported, we provide the following examples and seek comment on whether they are sufficiently clear. First, we note that a booked out transaction can be set forth as a direct countervailing transaction that occurs when two companies, both of whom are selling physical energy to each other for the same delivery period, mutually agree to exchange their physical delivery obligations to each other, but maintain all of their other obligations, including payment. In practice, this would look like the following: Company A is contractually committed to sell 100 megawatt hours (MWh) to Company B on 5/5/15 from 10:00 a.m. to 11:00 a.m. for $50/MWh. When scheduling and tagging, the scheduler notices that Company B is contractually committed to sell 50 MWh to Company A on 5/5/15 from 10:00 a.m. to 11:00 a.m. for $40/MWh. Because there is no need to pay for transmission of both complete transactions (i.e., 100 MWh from Company A to Company B and 50 MWh from Company B to Company A), Company A and Company B agree to book the overlapping sale out and settle that portion financially.

17. Company A and Company B should report this booked out transaction in the EQR as shown in the table below:

18. Second, a booked out transaction as a curtailment occurs when one company is selling energy to another company and, in real time, the company buying the energy signals the seller to reduce the amount of energy it is providing to the buyer, in exchange for a curtailment payment commensurate with the reduced production. In practice, this would look like the following: Company C is contractually committed to sell 100 MWh to Company D on 5/5/15 from 11:00 a.m. to 12:00 p.m. for $30/MWh. On 5/5/15, just prior to 11:00 a.m., Company C is signaled to curtail its transmission of energy from 11:00 a.m. to 12:00 p.m. from 100 MWh to 50 MWh. Company C will receive a curtailment payment based on its contract with Company D equal to $35/MWh times the difference between Company C's curtailed level of production (i.e., 50 MWh) and the level of production it would have otherwise had (100 MWh). Because Company C received payment for 50 MWh of physically scheduled energy which was not delivered, Company C would book out that amount at the contractually set rate of $35/MWh and Company D would not report the transaction in the EQR.

19. Company C should report this transaction as shown in the table below:

20. Finally, a booked out transaction known as a daisy chain occurs when there are at least three companies in a chain of energy sales and at least one company appears twice in that chain (e.g., as a seller and as a buyer). It could be considered as an “indirect countervailing transaction” if compared to the direct countervailing transaction. In practice, this would look like the following: Company E is contractually committed to sell 100 MWh to Company F on 5/5/15 from 12:00 p.m. to 1:00 p.m. for $30/MWh. Company F is contractually committed to sell 50 MWh to Company G on 5/5/15 from 12:00 p.m. to 1:00 p.m. for $30/MWh. Company G is contractually committed to sell 20 MWh to Company E on 5/5/15 from 12:00 p.m. to 1:00 p.m. for $30/MWh. Because there is no need to pay for transmission of each complete transaction (i.e., 100 MWh from Company E to Company F, 50 MWh from Company F to Company G, and 20 MWh from Company G to Company E), they agree to book out and settle the overlapping portion financially.

21. Company E, Company F, and Company G should report this booked out transaction in the EQR as shown in the table below:

22. We also seek comments on whether there are other aspects of booked out transactions that have caused filers confusion and that the Commission should clarify.

III. Information Collection Statement

23. The Paperwork Reduction Act (PRA) ²² requires each federal agency to seek and obtain Office of Management and Budget (OMB) approval before undertaking a collection of information directed to ten or more persons or contained in a rule of general applicability. OMB regulations ²³ require approval of certain information collection requirements imposed by agency rules. Upon approval of a collection of information, OMB will assign an OMB control number and an expiration date. Respondents subject to the filing requirements of these proposals will not be penalized for failing to respond to this collection of information unless the collection of information displays a valid OMB control number.

²² 44 U.S.C. 3501-3520.

²³ 5 CFR 1320.

24. We solicit comments on the Commission's need for this information, whether the information will have practical utility, the accuracy of the provided burden estimates, ways to enhance the quality, utility, and clarity of the information to be collected, and any suggested methods for minimizing respondents' burden, including the use of automated information techniques.

25. The proposals in this document will affect public utilities and certain non-public utilities. The proposals would require transmission providers to report ancillary services transaction data; require filers to submit into the FERC Tariff Reference fields in the EQR certain tariff-related information that they currently submit in the e-Tariff system; and require EQR filers to submit time zone information in connection with transmission capacity reassignment transactions. The proposals in this document also clarify how booked out transactions should be reported in the EQR.

26. There are approximately 2,196 public utilities and about 40 non-public utilities that currently file EQRs. About 405 of the 2,196 public utilities only submit data in the ID Data section of the EQR ²⁴ because they have no data to report in the Contract or Transaction Data sections of the EQR. We estimate there are about 266 public utilities and 14 non-public utilities that would be impacted by the proposal to report ancillary service transaction data, based on the number of public utility and non-public utility transmission providers that are currently reporting ancillary services in the Contract Data section of the EQR. Of the total 2,196 public utilities, approximately 1,791 have e-Tariffs on file and submit data in the Contract and/or Transaction Data sections of the EQR and would, therefore, be impacted by the proposal to submit additional tariff-related information in their EQRs. Similarly, about 14 non-public utilities have e-Tariffs on file and submit data in the Contract and/or Transaction Data sections of the EQR and would, therefore, be impacted. We also estimate that approximately 29 public utilities and 3 non-public utilities are currently reporting transmission capacity reassignment transactions and would be affected by the proposal to include the time zone information in connection with these transactions. Finally, we estimate that about 20 public utilities and 5 non-public utilities would need to distinguish between booked out energy and booked out capacity and, therefore, would be impacted by the proposal to separately identify and report these transactions.

²⁴ The ID Data section generally captures contact information identifying the seller company and the agent who prepared the company's filing, along with the applicable filing quarter.

27. Burden Estimate: The estimated burden and cost ²⁵ for the requirements proposed in this document follow. With respect to the burden and cost estimate associated with booked out transactions, our estimate is limited to the proposal to require EQR filers to distinguish between and separately report booked out energy and booked out capacity. The Commission previously provided burden and cost estimates for complying with the requirement to report booked out transactions when the requirement was initially set forth in Order No. 2001.²⁶

²⁵ The estimated hourly cost (salary plus benefits) are based on the figures for May 2015 posted by the Bureau of Labor Statistics for the Utilities sector (available at http://www.bls.gov/oes/current/naics2_22.htm) and updated March 2016 for benefits information (at http://www.bls.gov/news.release/ecec.nr0.htm). The hourly estimates for salary plus benefits are: (a) Legal (code 23-0000), $128.94; (b) Computer and mathematical (code 15-0000), $60.54; (c) Information systems manager (code 11-3021), $91.63; (d) IT security analyst (code 15-1122), $58.00; (e) Auditing and accounting (code 13-2011), $53.78; and (f) Information and record clerk (code 43-4199), $37.69.

²⁶ See Order No. 2001, FERC Stats. & Regs.¶ 31,127 at PP 368-378.

For public and non-public utilities, the hourly cost (rounded, for salary plus benefits) for one-time implementation are computed as follows:

• For “Reporting Ancillary Service Transactions,” “Reporting e-Tariff Data Fields,” and “Reinstating `Time Zone' Field in Contracts,” the estimated cost is $71/hour.²⁷

²⁷ This estimate is based on the following percentages (rounded) of time spent: (a) Legal, 12.5%; (b) Computer and mathematical, 37.5%; (c) Information systems manager, 16.7%; (d) IT security analyst, 12.5%; (e) Auditing and accounting, 12.5%; and (f) Information and record clerk, 8.3%.

• For “Distinguishing Booked Out Transactions,” the estimated cost is $80/hour.²⁸

²⁸ This estimate is based on the following percentages of time spent: (a) Legal, 28.6%; (b) Computer and mathematical, 14.3%; (c) Information systems manager, 14.3%; (d) IT security analyst, 14.3%; (e) Auditing and accounting, 14.3%; and (f) Information and record clerk, 14.3%.

For public and non-public utilities, the ongoing hourly costs (rounded, for salary plus benefits) are computed as follows.

• For the “Reporting Ancillary Service Transactions” and “Submitting Four Unique Data Fields Associated with Tariff in e-Tariff,” the estimated cost is $53/hour.²⁹

²⁹ This estimate is based on the following percentages (rounded) of time spent: (a) Computer and mathematical, 25%; (b) IT security analyst, 25%; (c) Auditing and accounting, 25%; and (d) Information and record clerk, 25%.

• For “Reinstating `Time Zone' Field in Contracts,” the estimated cost is $61/hour.³⁰

³⁰ This estimate is based on the following percentage of time spent: Computer and mathematical, 100%.

• For “Distinguishing Booked Out Transactions,” there is no additional ongoing cost.

Title: FERC-920, Electric Quarterly Report (EQR).

Action: Revision of currently approved collection of information.

OMB Control No.: 1902-0255.

Respondents: Public Utilities and Certain Non-Public Utilities.

Frequency of Information: Initial implementation and quarterly updates.

28. Necessity of Information: The Commission's EQR reporting requirements must keep pace with market developments and technological advancements. Collecting and formatting data as discussed in this document will provide the Commission with the necessary information to identify and address potential exercises of market power and better inform Commission policies and regulations.

29. Internal Review: The Commission has made a preliminary determination that the proposed revisions are necessary in light of technological advances in data collection processes. The Commission has assured itself, by means of its internal review, that there is specific, objective support for the burden estimate associated with the information requirements.

30. Interested persons may obtain information on the reporting requirements by contacting the Federal Energy Regulatory Commission, Office of the Executive Director, 888 First Street NE., Washington, DC 20426 [Attention: Ellen Brown, email: DataClearance@ferc.gov, phone: (202) 502-8663, fax: (202) 273-0873].

31. Comments concerning the information collections proposed in this document, and the associated burden estimates, should be sent to the Commission in this docket and may also be sent to the Office of Management and Budget, Office of Information and Regulatory Affairs, Washington, DC 20503 [Attention: Desk Office for the Federal Energy Regulatory Commission]. For security reasons, comments should be sent by email to OMB at the following email address: oira_submission@omb.eop.gov. Please reference FERC-920 and OMB Control No. 1902-0255 (FERC-920) in your submission.

IV. Environmental Analysis

32. The Commission is required to prepare an Environmental Assessment or an Environmental Impact Statement for any action that may have a significant adverse effect on the human environment.³¹ The Commission has categorically excluded certain actions from these requirements as not having a significant effect on the human environment.³² The actions proposed here fall within a categorical exclusion in the Commission's regulations, i.e., they involve information gathering, analysis, and dissemination.³³ Therefore, environmental analysis is unnecessary and has not been performed.

³¹ Regulations Implementing National Environmental Policy Act of 1969, Order No. 486, FERC Stats. & Regs. ¶ 30,783 (1987).

³² Id.

³³ 18 CFR 380.4 (2016).

V. Comment Procedures

33. The Commission invites interested persons to submit comments on the matters and issues posted in this document, including any related matters or alternative proposals that commenters may wish to discuss. Comments are due December 6, 2016. Comments must refer to Docket Nos. RM01-8, RM10-12, RM12-3, or ER02-2001 and must include the commenter's name, the organization they represent, if applicable, and their address. The Commission encourages comments to be filed electronically via the eFiling link on the Commission's Web site at http://www.ferc.gov. The Commission accepts most standard word processing formats. Documents created electronically using word processing software should be filed in native applications or print-to-PDF format and not in a scanned format. Commenters filing electronically do not need to make a paper filing.

34. Commenters that are not able to file comments electronically must send an original of their comments to: Federal Energy Regulatory Commission, Secretary of the Commission, 888 First Street NE., Washington, DC 20426.

35. All comments will be placed in the Commission's public files and may be viewed, printed, or downloaded remotely as described in the Document Availability section below. Commenters on this proposal are not required to serve copies of their comments on other commenters.

VI. Document Availability

36. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street NE., Room 2A, Washington, DC 20426.

37. From the Commission's Home Page on the Internet, this information is available on eLibrary. The full text of this document is available on eLibrary in PDF and Microsoft Word format for viewing, printing, and/or downloading. To access this document in eLibrary, type the docket number excluding the last three digits of this document in the docket number field.

38. User assistance is available for eLibrary and the Commission's Web site during the Commission's normal business hours from Commission's Online Support services at (202) 502-6652 (toll free at 1-866-208-3676) or email at ferconlinesupport@ferc.gov, or the Public Reference Room at (202) 502-8371, TTY (202) 502-8659. Email the Public Reference Room at public.referenceroom@ferc.gov.

By direction of the Commission.
Issued September 22, 2016.
Nathaniel J. Davis, Sr.,
Deputy Secretary.

Attachment—Proposed Revisions to Electric Quarterly Report Data Dictionary

BILLING CODE 6717-01-P

[FR Doc. 2016-23447 Filed 10-6-16; 8:45 am]

BILLING CODE 6717-01-C